ENVIRONMENTAL PROTECTION AGENCY

40 CFR Part 271

[FRL-7823-8]

Nebraska: Final Authorization of State Hazardous Waste Management Program Revision

AGENCY: Environmental Protection Agency (EPA).

ACTION: Immediate final rule.

SUMMARY: Nebraska has applied to the EPA for final authorization of the changes to its hazardous waste program under the Resource Conservation and Recovery Act (RCRA). The EPA has determined that these changes satisfy all requirements needed to qualify for final authorization, and is authorizing the State's changes through this immediate final action. The EPA is publishing this rule to authorize the changes without a prior proposal because we believe this action is not controversial and do not expect comments that oppose it. Unless we receive written comments which oppose this authorization during the comment period, the decision to authorize Nebraska's changes to its hazardous waste program will take effect. If we receive comments that oppose this action, we will publish a document in the Federal Register withdrawing this rule before it takes effect, and a separate document in the proposed rules section of this Federal Register will serve as a proposal to authorize the changes.

DATES: This final authorization will become effective on December 3, 2004 unless the EPA receives adverse written comment by November 3, 2004. If the EPA receives such comment, it will publish a timely withdrawal of this immediate final rule in the Federal Register and inform the public that this authorization will not take effect.

ADDRESSES: Submit your comments by one of the following methods:

1. Federal eRulemaking Portal: http://www.regulations.gov. Follow the on-line instructions for submitting comments.

2. E-mail: haugen.lisa@epa.gov.

3. Mail: Lisa Haugen, Environmental Protection Agency, ARTD/RESP, 901 North 5th Street, Kansas City, Kansas 66101.

4. Hand Delivery or Courier. Deliver your comments to Lisa Haugen, Environmental Protection Agency, ARTD/RESP, 901 North 5th Street, Kansas City, Kansas 66101.

Instructions: Do not submit information that you consider to be CBI or otherwise protected through regulations.gov, or e-mail. The Federal regulations.gov Web site is an “anonymous access” system, which means the EPA will not know your identity or contact information unless you provide it in the body of your comment. If you send an e-mail comment directly to the EPA without going through regulations.gov, your e-mail address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Publicly available materials are available in hard copy at the Environmental Protection Agency, ARTD/RESP, 901 North 5th Street, Kansas City, Kansas 66101. The Regional Office's official hours of business are Monday through Friday, 8 a.m. to 4:30 p.m., excluding Federal holidays. Interested persons wanting to examine these documents should make an appointment with the office at least 24 hours in advance.

FOR FURTHER INFORMATION CONTACT: Lisa V. Haugen, U.S. EPA Region 7, ARTD/RESP, 901 North 5th Street, Kansas City, Kansas 66101, (913) 551-7877, or by e-mail at haugen.lisa@epa.gov.

SUPPLEMENTARY INFORMATION:

A. Why Are Revisions to State Programs Necessary?

States which have received final authorization from the EPA under RCRA section 3006(b), 42 U.S.C. 6926(b), must maintain a hazardous waste program that is equivalent to, consistent with, and no less stringent than the Federal program. As the Federal program changes, States must change their programs and ask the EPA to authorize the changes. Changes to State programs may be necessary when Federal or State statutory or regulatory authority is modified or when certain other changes occur. Most commonly, States must change their programs because of changes to the EPA's regulations in 40 Code of Federal Regulations (CFR) parts 124, 260 through 266, 268, 270, 273, and 279.

B. What Decisions Have We Made in This Rule?

We conclude that Nebraska's application to revise its authorized program meets all of the statutory and regulatory requirements established by RCRA. Therefore, we grant Nebraska final authorization to operate its hazardous waste program with the changes described in the authorization application. Nebraska has responsibility for permitting treatment, storage, and disposal facilities within its borders (except in Indian Country) and for carrying out the aspects of the RCRA program described in its revised program application, subject to the limitations of the Hazardous and Solid Waste Amendments of 1984 (HSWA). New Federal requirements and prohibitions imposed by Federal regulations that the EPA promulgates under the authority of HSWA take effect in authorized States before they are authorized for the requirements. Thus, the EPA will implement those requirements and prohibitions in Nebraska, including issuing permits, until the State is granted authorization to do so.

C. What Is the Effect of Today's Authorization Decision?

The effect of this decision is that a facility in Nebraska subject to RCRA will now have to comply with the authorized State requirements instead of the equivalent Federal requirements in order to comply with RCRA. Nebraska has enforcement responsibilities under its State hazardous waste program for violations of such program, but the EPA retains its authority under RCRA sections 3007, 3008, 3013, and 7003, which include, among others, authority to:

• Do inspections, and require monitoring, tests, analyses, or reports;

• Enforce RCRA requirements and suspend or revoke permits.

This action does not impose additional requirements on the regulated community because the regulations for which Nebraska is being authorized by today's action are already effective under State law, and are not changed by today's action.

D. Why Wasn't There a Proposed Rule Before Today's Rule?

The EPA did not publish a proposal before today's rule because we view this as a routine program change and do not expect comments that oppose this approval. We are providing an opportunity for public comment now. In addition to this rule, in the proposed rules section of today's Federal Register we are publishing a separate document that proposes to authorize the State program changes.

E. What Happens if the EPA Receives Comments That Oppose This Action?

If the EPA receives comments that oppose this authorization, we will withdraw this rule by publishing a document in the Federal Register before the rule becomes effective. The EPA will base any further decision on the authorization of the State program changes on the proposal mentioned in the previous paragraph. We will then address all public comments in a later final rule. You may not have another opportunity to comment. If you want to comment on this authorization, you must do so at this time. If we receive comments that oppose only the authorization of a particular change to the State hazardous waste program, we will withdraw only that part of this rule, but the authorization of the program changes that the comments do not oppose will become effective on the date specified above. The Federal Register withdrawal document will specify which part of the authorization will become effective, and which part is being withdrawn.

F. For What Has Nebraska Previously Been Authorized?

Nebraska initially received final authorization on January 24, 1985, effective February 7, 1985 (50 FR 3345), to implement the RCRA hazardous waste management program. We granted authorization for changes to its program on October 4, 1985, effective December 3, 1988 (53 FR 38950); June 25, 1996, effective August 26, 1996 (61 FR 32699); June 4, 2002, effective April 22, 2002 (67 FR 38418); and April 10, 2003, effective June 9, 2003 (68 FR 17553).

G. What Changes Are We Authorizing With Today's Action?

On May 11, 2004, Nebraska submitted a final complete program revision application, seeking authorization of its changes in accordance with 40 CFR 271.21. We now make an immediate final decision, subject to the EPA's receipt of written comments that oppose this action, that Nebraska's hazardous waste program revision satisfies all of the requirements necessary to qualify for final authorization. Therefore, we grant Nebraska final authorization for the following program changes:

Description of federal requirement (include checklist #, if relevant) | Federal Register date and page (and/or RCRA statutory authority) | Analogous state authority
Listing of EBDC—Checklist 33 | 51 FR 37725-37729, October 24, 1986 | Title 128 3-014; Appendix II (effective July 15, 2003).
Revised Manual SW-846—Checklist 35 | 52 FR 8072-8073, March 16, 1987 | Title 128 1-003 (effective July 15, 2003).
Identification and Listing of Hazardous Waste; Technical Correction—Checklist 47 | 53 FR 27162-27163, July 19, 1988 | Title 128 8-005; 8-006.02 (effective July 15, 2003).
Farmer Exemptions; Technical Corrections—Checklist 48 | 53 FR 27164-27165, July 19, 1988) | Title 128 9-001.02; 10-001.06-.07; 12-001.03B; 21-001.02D; 22-001.01E; effective July 15, 2003).
Identification and Listing of Hazardous Waste; Treatability Studies Sample Exemption—Checklist 49 | 53 FR 27290-29302, July 19, 1988 | Title 128 1-120; 2-012.01-.03; 2-013.01-.02 (effective July 15, 2003).
Land Disposal Restrictions for First Third Scheduled Wastes—Checklist 50 | 53 FR 311-38-31222, August 17, 1988 | Title 128 7-007.01B; 20-001.03C; 20-001.04; 20-004; 20-005.01-.03; 20-007; 20-008.01; 20-008.03; 20-012.04 21-002; 21-005; 22-002; 22-005 (effective July 15, 2003).
Hazardous Waste Management System; Standards for Hazardous Waste Storage and Treatment Tank Systems—Checklist 52 | 53 FR 34079-34087 September 2, 1988 | Title 128 1-039; 1-132; 9-009.02C; 21-007; 21-010; 22-007; 22-010 (effective July 15, 2003).
Identification and Listing of Hazardous Waste; and Designation, Reportable Quantities, and Notification—Checklist 53 (Amended) | 53 FR 35412-35421 September 13, 1988 | Title 128 2-009.05; 3-014; Appendix II (effective July 15, 2003).
Statistical Methods for Evaluating Ground-Water Monitoring Data from Hazardous Waste Facilities—Checklist 55 | 53 FR 39720-39731 October 11, 1988 | Title 128 21-006 (effective July 15, 2003).
Identification and Listing of Hazardous Waste Removal of Iron Dextran from the List Hazardous Wastes—Checklist 56 | 53 FR 43878-4381 October 31, 1988 | Title 128 3-016; Appendix I (effective July 15, 2003).
Identification and Listing of Hazardous Waste; Removal of Strontium Sulfide from the List of Hazardous Wastes—Checklist 57 | 53 FR 43881-43884 October 31, 1988 | Title 128 3-015-05; Appendix I (effective July 15, 2003).
Standards for Generators of Hazardous Waste—Checklist 58 | 53 FR 45089-45093 November 8, 1988 | Title 128 10-002.01 (effective July 15, 2003).
Hazardous Waste Miscellaneous Units; Standards Applicable to Owners and Operators—Checklist 59 | 54 FR 615-617, January 9, 1989 | Title 128 13-012.02 (effective July 15, 2003).
Amendment to Requirements for Hazardous Waste Incinerator Permits—Checklist 60 | 54 FR 4286-4288, January 30, 1989 | Title 128 12-001.04C.
Land Disposal Restrictions Amendments to First Third Scheduled Wastes: Checklist 62 | 54 FR 18836-18838, May 2, 1989 | Title 128 20-008, Table 9 (effective July 15, 2003).
Land Disposal Restrictions Amendments to Second Third Scheduled Wastes—Checklist 63 | 54 FR 26594-26652, June 23, 1989 | Title 128 20-009, Table 9 (effective July 15, 2003).
Delay of Closure Period for Hazardous Waste Management Facilities—Checklist 64 | 54 FR 33376-33398, August 14, 1989 | Title 128 21-002; 21-007-008; 22-002; 22-007-008; Appendix V (effective July 15, 2003).
Mining Waste Exclusion—Checklist 65 | 54 FR 36592-3664, September 1, 1989 | Title 128 2-004.02A; 2-004.02C; 2-009.05 (effective July 15, 2003).
Land Disposal Restrictions; Correction to the First Third Scheduled Wastes—Checklist 66 | 54 FR 36967, September 6, 1989, as amended on June 13, 1990, at 55 FR 23935 | Title 128 7-007.01B; 20-001.03; 20-001.05; 20-005.01C; 20-005.02; 20-007; 20-012.04 (effective July 15, 2003).
Testing and Monitoring Activities—Checklist 67 | 54 FR 40260-40269, September 29, 1989 | Title 128 1-003 (effective July 15, 2003).
Reportable Quantity Adjustment Methyl Bromide Production Wastes—Checklist 68 | 54 FR 41402-41408, October 6, 1989 | Title 128 3-014; Appendix II (effective July 15, 2003).
Reportable Quantity Adjustment—Checklist 69 | 54 FR 50968-50979, December 11, 1989 | Title 128 3-013; Appendices I-II (effective July 15, 2003).
Mining Waste Exclusion II—Checklist 71 | 55 FR 2322-2354, January 23, 1990 | Title 128 1-031; 2-009.05; 9-007.06; 10-002.13 (effective July 15, 2003).
Modification of F019 Listing—Checklist 72 | 55 FR 5340-5342, February 14, 1990 | Title 128 3-013 (effective July 15, 2003).
Testing and Monitoring Activities; Technical Corrections—Checklist 73 | 55 FR 8948-8950, March 9, 1990 | Title 128 1-003 (effective July 15, 2003).
Listing of 1, 1-Dimethylhydrazine Production Wastes—Checklist 75 | 55 FR 18496-18506, May 2, 1990 | Title 128 1-003; 3-014; Appendix II (effective July 15, 2003).
Criteria for Listing Toxic Wastes; Technical Amendment—Checklist 76 | 55 FR 18726, May 4,1990 | Title 128 3-002.03 (effective July 15, 2003).
HSWA Codification Rule, Double Liners, Correction—Checklist 77 | 55 FR 19262-19264, May 9, 1990 | Title 128 21-011; 21-014 (effective July 15, 2003).
Land Disposal Restrictions for Third Third Scheduled Wastes—Checklist 78 | 55 FR 22520-22720, June 1, 1990 | Title 128 3-006, 3-007.02; 3-008.02; 3-009.02; 3-010-02; 3-013; 3-015.03; 4-002.03; 10-004.01H; 15-012/Appendix V; 20-001.03C; 20-002; 20-002.01-07; 20-003.01-02; 20-005.01E2; 20-005.01G-H; 20-005.01J; 20-005.02-03; 20-006.01-04; 20-007; 20-009.01; 20-009.01/Table 10; 20-009.02-03; 20-015-17; 20-019; 21-002; 21-011-014; 22-001.03; 22-002; 22-011-14 Appendix II (effective July 15, 2003).
Organic Air Emission Standards for Process Vents and Equipment Leaks—Checklist 79 | 55 FR 25454-25519, June 21, 1990 | Title 128 1-003; 7-005; 7-005.01; 7-006.03; 13-012.02; 13-012.04; 21-002; 21-005; 21-019-020; 22-002; 22-005; 22-019-20 (effective July 15, 2003).
Toxicity Characteristic: Hydrocarbon Recovery Operations—Checklist 80 | 55 FR 40834-40837, October 5, 1990 | This requirement has expired.
Petroleum Refinery Primary and Secondary Oil/Water/Solids Separation Sludge Listings (F03 and F038)—Checklist 81 | 55 FR 46354-46397 November 2, 1990, as amended on December 17, 1990 at 55 FR 51707 | Title 128 3-013.01-02; Appendix II (effective July 15, 2003).
Wood Preserving Listings—Checklist 82 | 55 FR 50450-50490, December 6, 1990 | Title 128 1-003; 1-038; 2-008.09; 3-013.01; 3-017; 10-004.01G-H; 13-12.04; 21-010; 21-017; 22-010; 22-018 Appendix I; Appendix II (effective July 15, 2003).
Land Disposal Restrictions for Third Third Scheduled Wastes; Technical Amendments—Checklist 83 | 56 FR 3864-3928, January 31, 1991 | Title 128 2-007.01A; 3-006; 3-013.01; 4-002.03; 9-007.03D; 9-007.03F-G; 20-002.04; 20-002.07; 20-005.01; 20-005.01C2; 20-005.01F-J; 20-005.02; 20-006.01; 20-006.04A2; 20-008.01; 20-009, Table 9; 20-009, Table 10; 20-016-019; Appendix V (effective July 15, 2003).
Toxicity Characteristic; Chlorofluorocarbon Refrigerants—Checklist 84 | 56 FR 5910-5915, February 13, 1991 | Title 128 2-009.11 (effective July 15, 2003).
Burning of Hazardous Waste in Boilers and Industrial Furnaces—Checklist 85 | 56 FR 7134-7240, February 21, 1991 | Title 128 1-003; 1-004; 1-014; 1-061.01-.02; 1-064; 1-064.12-.13; 1-065; 1-094; 1-104; 2-003.04B-C; 2-008.10; 2-009.03; 2-009.05-.06; 7-002.07-.10; 7-008.01A-.01C; 7-008.02A-.02C; 7-008.03; 12-001.04F; 12-003.04D-.04E; 13-012.04; 15-012.02Q; 21-007; 21-015; 22-007; 22-015; Appendix V (effective July 15, 2003).
Removal of Strontium Sulfide from the List of Hazardous Wastes; Technical Amendment—Checklist 86 | 56 FR 7567-7568, February 25, 1991 | Title 128 3-015.05; Appendix I (effective July 15, 2003).
Organic Air Emission Standards for Process Vents and Equipment Leaks; Technical Amendment—Checklist 87 | 56 FR 19290, April 26, 1991 | Title 128 13-012.04; 21-019-020; 22-002; 22-005; 22-019-020 (effective July 15, 2003).
Administrative Stay for K069 Listing—Checklist 88 | 56 FR 19951, May 1, 1991 | Title 128 3-014 (effective July 15, 2003).
Revision to the Petroleum Refining Primary and Secondary Oil/Water/Solids Separation Sludge Listings (F037 and F038)—Checklist 89 | 56 FR 21955-21960, May 13, 1991 | Title 128 3-013.01 (effective July 15, 2003).
Mining Waste Exclusion III—Checklist 90 | 56 FR 27300-27330, June 13, 1991 | Title 128 2-009.05 (effective July 15, 2003).
Wood Preserving Listings; Technical Corrections—Checklist 92 | 56 FR 30192-30198, July 1, 1991 | Title 128 2-008.09; 3-017; 10-004.01A-.01C; 10-004.01F-.01H; 13-012.04; 21-017; 22-018 (effective July 15, 2003).
Burning of Hazardous Waste in Boilers and Industrial Furnaces; Corrections and Technical Amendments—Checklist 94 | 56 FR 32688-32852, July 17, 1991 | Title 128 2-006.03B; 7-003; 7-003.02; 7-008.01B2-.01B3;7-008.03; 7-009.01C-.01D; 12-001.04E-.04F; 13-012.04; 15-012.02K1(d); 15-012.02Q1; 15-012.02Q1(a); 15-012.02Q1(d); 22-016; Appendix V (effective July 15, 2003).
Land Disposal Restrictions for Electric Arc Furnace Dust (K061)—Checklist 95 | 56 FR 41164-41178, August 19, 1991 | Title 128 2-006.03C-.03C1; 2-008.11 (effective July 15, 2003).
Burning of Hazardous Waste in Boilers and Industrial Furnaces; Technical Amendments II— Checklist 96 | 56 FR 42504-42517, August 27, 1991 | Title 128 2-003.04B; 2-003.04B1-.04B3; 7-008.01A; 7-008.01C; 7-008.03; 22-007 (effective July 15, 2003).
Amendments to Interim Status Standards for Downgradiant Ground-Water Monitoring Well Locations—Checklist 99 | 56 FR 66365-66369, December 23, 1991 | Title 128 22-006 (effective July 15, 2003).
Liners and Leak Detection Systems for Hazardous Waste Land Disposal Units—Checklist 100 | 57 FR 3462-3497, January 29, 1992 | Title 128 1-098; 1-110; 12-002.01; 12-002.01A-.01C; 13-.012.04; 21-002; 21-005; 21-011-012; 21-014; 22-002; 22-005; 22-011-012; 22-014; Appendix V (effective July 15, 2003).
Second Correction to the Third Third Land Disposal Restrictions—Checklist 102 | 57 FR 8086-8089, March 6, 1992, March 6, 1992 | Title 128 20-003.02; 21-002; 22-002 (effective July 15, 2003).
Used Oil Filter Exclusion— Checklist 104 | 57 FR 21524-21534, May 20, 1992 | Title 128 2-009.12; 2-009.12A-009.12A-.12D (effective July 15, 2003).
Recycled Coke By-Product Exclusion— Checklist 105 | 57 FR 27880-27888, June 22, 1992 | Title 128 2-008.10; 7-008.01A (effective July 15, 2003).
Used Oil Filter Exclusion; Technical Corrections—Checklist 107 | 57 FR 29220, July 1, 1992 | Title 128 2-009.12 (effective July 15, 2003).
Toxicity Characteristics Revisions: Technical Corrections—Checklist 108 | 57 FR 30657-30658, July 10, 1992 | Title 128 2-009.07; 2-009.09D; 22-014 (effective July 15, 2003).
Coke By-Products Listings— Checklist 110 | 57 FR 37284-37306, August 18, 1992 | Title 128 2-008.10; 3-014; Appendix II (effective July 15, 2003).
Burning of Hazardous Waste in Boilers and Industrial Furnaces; Technical Amendment III—Checklist 111 | 57 FR 38558-38566, August 25, 1992 | Title 128 1-065; 1-094; 2-003.05B4; 6-001.01; 7-008.01A; 7-008.01C; 7-008.02C; 7-008.03; 21-001.02B; 22-001.01C (effective July 15, 2003).
Consolidated Liability Requirements— Checklist 113 | 57 FR 42832-42844, September 16, 1992 | Title 128 21-008; 22-008 (effective July 15, 2003).
Burning of Hazardous Waste in Boilers and Industrial Furnaces; Technical Amendment IV—Checklist 114 | 57 FR 44999-45001, September 30, 1992 | Title 128 7-008.03 (effective July 15, 2003).
Clorinated Toleunes Production Waste Listings—Checklist 115 | 57 FR 47376-47386, October 15, 1992 | Title 128 3-014; Appendix II (effective July 15, 2003).
Toxicity Characteristic Amendment—Checklist 117B | 57 FR 23062-23063, June 1, 1992 | Title 128 2-004.02A (effective July 15, 2003).
Liquids in Landfills II—Checklist 118 | 57 FR 54452-54461, November 18, 1992 | Title 128 21-002; 21-014; 22-002; 22-014 (effective July 15, 2003).
Toxicity Characteristic Revision; TCLP Correction—Checklist 119 | 57 FR 55114-55117, November 24, 1992 | All sections have been removed from the Federal regulations.
Wood Preserving; Revisions to Listings and Technical Requirements—Checklist 120 | 57 FR 61492-61505, December 24, 1992 | Title 128 3-013.01; 21-017; 22-018 (effective July 15, 2003).
Boilers and Industrial Furnaces; Changes for Consistency with New Air Regulations—Checklist 125 | 58 FR 38816-38884, July 20, 1993 | Title 128 1-003; 7-008.03 (effective July 15, 2003).
Testing and Monitoring Activities—Checklist 126 | 58 FR 46040-46051, August 31, 1993 | Title 128 1-003; 3-008.01A-.01B; 3-010.01; 6-003.03A1; 12-001.04C; 12-001.04F; 13-012.04; 20-005.01A; 20-008.01; 20-019; 21-010; 21-014; 22-010; 22-014 (effective July 15, 2003).
Boilers and Industrial Furnaces; Administrative Stay and Interim Standards for Bevill Residues—Checklist 127 | 58 FR 59598-59603, November 9, 1993 | Title 128 7-008.03 (effective July 15, 2003).
Wastes From the Use of Chlorophenolic Formulations in Wood Surface Protection—Checklist 128 | 59 FR 458-469, January 4, 1994 | Title 128 1-003; Appendix I (effective July 15, 2003).
Revision of Conditional Exemption for Small Scale Treatability Studies—Checklist 129 | 59 FR 8362-8366, February 18, 1994 | Title 128 2-012; 2-012.03; 2-013.02 (effective July 15, 2003).
Recordkeeping Instructions; Technical Amendment—Checklist 131 | 59 FR 13891-13893, March 24, 1994 | Title 128 21-023; 22-023 (effective July 15, 2003).
Wood Surface Protection; Correction—Checklist 132 | 59 FR 28484, June 2, 1994 | Title 128 1-003 (effective July 15, 2003).
Letter of Credit Revision—Checklist 133 | 59 FR 29958-29960, June 10, 1994 | Title 128 21-008 (effective July 15, 2003).
Correction of Beryllium Powder (P015) Listing—Checklist 134 | 59 FR 31551-31552, June 20, 1994 | Title 128 3-015.05; Appendix I (effective July 15, 2003).
Recovered Oil Exclusion—Checklist 135 | 59 FR 38536-38545, July 28, 1994 | Title 128 2-006.03B; 2-008.12; 7-002; 7-008.01B3 (effective July 15, 2003).
Testing and Monitoring Activities Amendment I—Checklist 139 | 60 FR 3089-3095, January 13, 1995 | Title 128 1-003 (effective July 15, 2003).
Carbamate Production Identification and Listing of Hazardous Waste—Checklist 140 | 60 FR 7824-7859, February 9, 1995 | Title 128 2-004.02D5-.02D7; 2-006.03D; 3-014; 3-015.05; 3-016; Appendices I-II (effective July 15, 2003).
Testing and Monitoring Activities Amendment II—Checklist 141 | 60 FR 17001-17004, April 4, 1995 | Title 128 1-003 (effective July 15, 2003).
Removal of Legally Obsolete Rules—Checklist 144 | 60 FR 33912-33915, June 29, 1995 | Title 128 3-013.01; 7+008.03; 13-005-007 (effective July 15, 2003).
Liquids in Landiflls III—Checklist 145 | 60 FR 35703-35706, July 11, 1995 | Title 128 21-014; 22-014 (effective July 15, 2003).
Amendments to the Definition of Solid Waste; Amendment II—Checklist 150 | 61 FR 13103-13106, March 26, 1996 | Title 128 2-008.12 (effective July 15, 2003).
Conditionally Exempt Small Quantity Generator Disposal Options under Subtitle D—Checklist 153 | 61 FR 34252-34278, July 1, 1996 | Title 128 8-006.03; 8-006.03A-.03F (effective July 15, 2003).
Conformance With the Carbamate Vacatur—Checklist 159 | 62 FR 1992-1997, May 29, 1997 | Title 128 3-014/Table 5; 3-016/Table 7; Appendices I-II; 20-007; 20-008/Table 9 (effective July 15, 2003).

H. Where Are the Revised State Rules Different From the Federal Rules?

In this authorization of the Fourth Program Revision for the State of Nebraska there are no provisions that are more stringent or broader in scope. Broader in scope requirements are not part of the authorized program and the EPA cannot enforce them.

I. Who Handles Permits After the Authorization Takes Effect?

Nebraska will issue permits for all the provisions for which it is authorized and will administer the permits it issues. The EPA will continue to administer any RCRA hazardous waste permits or portions of permits which we issued prior to the effective date of this authorization. We will not issue any more new permits or new portions of permits for the provisions listed in the Table above after the effective date of this authorization. The EPA will continue to implement and issue permits for HSWA requirements for which Nebraska is not yet authorized.

J. What Is Codification and Is the EPA Codifying Nebraska's Hazardous Waste Program as Authorized in This Rule?

Codification is the process of placing the State's statutes and regulations that comprise the State's authorized hazardous waste program into the CFR. We do this by referencing the authorized State rules in 40 CFR part 272. We reserve the amendment of 40 CFR part 272, subpart CC for this authorization of Nebraska's program changes until a later date.

K. Statutory and Executive Order Reviews

The Office of Management and Budget (OMB) has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes preexisting requirements under State law and does not impose any additional enforceable duty beyond that required by State law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 (May 22, 2001)) because it is not a significant regulatory action under Executive Order 12866.

Under RCRA 3006(b), the EPA grants a State's application for authorization as long as the State meets the criteria required by RCRA. It would thus be inconsistent with applicable law for the EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended 42 U.S.C. 6912(a), 6926, 6974(b).

Dated: September 2, 2004.
William Rice,
Acting Regional Administrator, Region 7.

[FR Doc. 04-22252 Filed 10-1-04; 8:45 am]

BILLING CODE 6560-50-P